DEPARTMENT OF LABOR

Employment and Training Administration

[TA-W-54,078]

Sappi Fine Paper, Cloquet, Minnesota; Notice of Termination of Investigation

Pursuant to section 221 of the Trade Act of 1974, as amended, an investigation was initiated on January 26, 2004 in response to a worker petition filed on behalf of workers at Sappi Fine Paper, Cloquet, Minnesota.

The petitioning group of workers is covered by an earlier petition filed on January 15, 2004 (TA-W-54,013) that is the subject of an ongoing investigation for which a determination has not yet been issued. Further investigation in this case would duplicate efforts and serve no purpose; therefore the investigation under this petition has been terminated.

Signed at Washington, DC, this 2nd day of February, 2004.
Richard Church,
Certifying Officer, Division of Trade Adjustment Assistance.

[FR Doc. 04-3924 Filed 2-23-04; 8:45 am]

BILLING CODE 4510-30-P